DEPARTMENT OF LABOR

Employment and Training Administration

[TA-W-53,737]

Tibbetts Industries, Inc., Camden, Maine; Notice of Termination of Investigation

Pursuant to section 221 of the Trade Act of 1974, as amended, an investigation was initiated on December 8, 2003, in response to a worker petition filed on behalf of workers at Tibbetts Industries, Inc., Camden, Maine.

The petitioner has requested that the petition be withdrawn. Consequently, the investigation has been terminated.

Signed in Washington, DC, this 16th day of December, 2003.
Elliott S. Kushner,
Certifying Officer, Division of Trade Adjustment Assistance.

[FR Doc. 04-295 Filed 1-6-04; 8:45 am]

BILLING CODE 4510-30-P